DEPARTMENT OF HEALTH AND HUMAN SERVICES

Administration for Community Living

Agency Information Collection Activities; Submission for OMB Review; Alzheimer's and Dementia Program Data Reporting Tool (ADP-DRT); OMB #0985-0022

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the Information Collection tools for information collection requirements related to Alzheimer's and Dementia Program Data Reporting Tool (ADP-DRT).

DATES: Submit written comments on the collection of information by 11:59 p.m. (EST) or postmarked by November 23, 2020.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Erin Long. Submit written comments on the collection of information to Administration for Community Living, Washington, DC 20201 Attention: Erin Long Phone: 202-795-7389 Erin.Long@acl.hhs.gov.

SUPPLEMENTARY INFORMATION: In compliance with 44 U.S.C. 3507, ACL has submitted the following proposed collection of information to OMB for review and clearance. The Older American's Act requires ACL to evaluate “demonstration projects that support the objectives of this Act, including activities to bring effective demonstration projects to scale with a prioritization of projects that address the needs of underserved populations, and promote partnerships among aging services, community-based organizations, and Medicare and Medicaid providers, plans, and health (including public health) systems. (Section 201 (42 U.S.C. 3011) Sec. 127. Research and Evaluation). To fulfill the evaluation requirements and allow for optimal federal and state-level management of ACL's Alzheimer's Disease Program, specific information must be collected from grantees.

The current reporting tool is set to expire December 30, 2020. The Alzheimer's and Dementia Program (ADP) Project Officer has reviewed the current data collection procedures to ensure the acceptability of these items as appropriate and thorough evaluation of the program, while minimizing burden for grantees. The result of this process is the proposed modifications to the existing data collection tool. ACL is aware that different grantees have different data collection capabilities. Following the approval of the modified data collection tool, ACL will work with its grantees to offer regular training to ensure minimal burden.

Comments in Response to the 60-Day Federal Register Notice

ACL published both a 60-day and 30-day Federal Register Notice in the Federal Register soliciting public comments on this revision request. The 60-day FRN published on July 20, 2020 in volume 85 No. 137 pages 43241-43242. ACL received comments from one individual.

Comments on Proposed Collection: Alzheimer's and Dementia Program Data Reporting Tool (ADP-DRT) OMB #0985-0022.

General

It would be helpful if the explanation of categories and definitions for all data elements were part of this information collection (i.e., PRA process). It is difficult to comment on estimated burden and utility of the information collection when the information being collected hasn't been fully explained. Also, definitions and data elements should be synchronized or crosswalked to those in the American Community Survey or another national collection to facilitate analyses across data collections.

PLWD & CG Served

CG data points—It is important to get a more fulsome profile of the caregivers to assess the impact caregiving has on their lives, their families, and those they care for. Understanding this data collection may not be for this purpose, a few extra data points could shed help expand the CG profile: employment status, # of chronic diseases, # of people cared for, # recent traumas experienced (e.g., emotional, physical, etc.), etc.

There are sections on race and ethnicity. It's not clear what is meant by “Minority Status” or why it's needed. This section should be deleted to reduce burden.

Living arrangement—This section describes who the PLWD lives with but doesn't identify where the person is living. It would be helpful to know whether these individuals are living in a private home setting, an institutional setting such as a nursing home, supportive housing, or if they are experiencing homelessness. It would also be helpful to know where they are receiving most of their care—i.e., in the home or outside of the home. Where people are receiving their care is relevant to the workforce and services needed to support them.

Professionals Trained

The note at the bottom states that “Persons trained should not include . . . . Caregivers . . .” but there are caregivers who are trained and licensed and some family caregivers who receive stipends from Medicaid and other programs. It's not clear if they would be excluded. Also, in the middle of the sheet there's a section on “Total Units of Direct Service Delivered.” How does this relate to Professionals Trained? This heading may belong to the last worksheet.

Services & Expenditures

Assuming that grantees can accurately report these totals if they have more granular data, there wouldn't be much more burden added if grantees reported the details behind “Total Units of Direct Service Delivered.” This should be broken out by service/expenditure type. Also, there should be separate column for PLWD and for CG. As noted previously, direct services for PLWD should be separated from direct services for the CG to get a better understanding the impact AD caregiving on family members.

The proposed data collection tools may be found on the ACL website for review at https://nadrc.acl.gov/node/226.

Estimated Program Burden

ACL estimates the burden associated with this collection of information as follows:

Respondent/data collection activity | Number of respondents | Responses per respondent | Hours per response | Annual burden hours
Local Program Site | 180 | 2 | 3.03 | 1,090.8
Grantee | 90 | 2 | 6.93 | 1,247.4
Total |  |  |  | 2,338.2

Dated: October 15, 2020.
Mary Lazare,
Principal Deputy Administrator.

[FR Doc. 2020-23472 Filed 10-22-20; 8:45 am]

BILLING CODE 4154-01-P